DEPARTMENT OF HEALTH AND HUMAN SERVICES

Agency for Toxic Substances and Disease Registry

[ATSDR-246]

Availability of Final Toxicological Profile for Perchlorates

AGENCY: Agency for Toxic Substances and Disease Registry (ATSDR), Department of Health and Human Services (HHS).

ACTION: Notice of availability.

SUMMARY: This notice announces the availability of the final toxicological profile for perchlorates, which completes the nineteenth set prepared by ATSDR. The announcement of seven toxicological profiles for the nineteenth set was published in the Federal Register on October 25, 2005 (70 FR 61622).

FOR FURTHER INFORMATION CONTACT: Ms. Olga Dawkins, Division of Toxicology and Environmental, Agency for Toxic Substances and Disease Registry, Mailstop F-32, 1600 Clifton Road, NE., Atlanta, Georgia 30333, telephone 1-(800) 232-4636 or (770) 488-3315.

SUPPLEMENTARY INFORMATION: The Superfund Amendments and Reauthorization Act (SARA) (Pub. L. 99-499) amends the Comprehensive Environmental Response, Compensation, and Liability Act (CERCLA or Superfund) (42 U.S.C. 9601 et seq. ) by establishing certain statutory requirements for ATSDR and the U.S. Environmental Protection Agency (USEPA) regarding hazardous substances most commonly found at facilities on the National Priorities List (NPL). Among the requirements is a mandate for the Administrator of ATSDR to prepare toxicological profiles for each substance included on the priority list of hazardous substances. This list identifies 275 hazardous substances that ATSDR and U.S. EPA determined pose the most significant potential threat to human health. The availability of the revised list of the 275 priority substances was announced in the Federal Register on March 6, 2008 (73 FR 12178). For previous versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744; November 17, 1997 (62 FR 61332); October 21, 1999 (64 FR 56792); October 25, 2001 (66 FR 54014); November 7, 2003 (68 FR 63098) and December 7, 2005 (70 FR 72840).

The Federal Register notice announcing that the draft toxicological profile for perchlorates was available for public review and comment was published on October 25, 2005(70 FR 61622). After the close of the 90-day public comment period, chemical-specific comments were addressed, and where appropriate, changes were incorporated into the profile. The public comments and other data submitted in response to the Federal Register notice bear the docket control number ATSDR-214. This material is available for public inspection at the Division of Toxicology and Environmental Medicine, Agency for Toxic Substances and Disease Registry, 4700 Buford Highway, Building 106, Second Floor, Chamblee, Georgia 30341 between 8 a.m. and 4:30 p.m., Monday through Friday, except legal holidays.

Availability

This notice announces the availability of the final toxicological profile for perchlorates, which completes the nineteenth set prepared by ATSDR. The following toxicological profile is now available at http://www.atsdr.cdc.gov/toxpro2.html or through the U.S. Department of Commerce, National Technical Information Service (NTIS), 5285 Port Royal Road, Springfield, Virginia 22161, telephone 1-800-553-6847. This profile is available for a fee as determined by NTIS.

Toxicological profile | NTIS Order No. | CAS No.
Perchlorates | PB2009-100006 | 10034-81-8 007778-81-8 007790-74-7 007601-89-0 007791-03-9

Dated: October 9, 2008.
Ken Rose,
Director, Office of Policy Planning and Evaluation, National Center for Environmental Health/Agency for Toxic Substances and Disease Registry.

[FR Doc. E8-24388 Filed 10-14-08; 8:45 am]

BILLING CODE 4163-70-P